DEPARTMENT OF ENERGY

Federal Energy Regulatory Commission

[Docket No. CP02-37-000]

Williston Basin Interstate Pipeline Company; Notice of Route and Site Review

October 11, 2002.

On October 23, 2002, the staff of the Office of Energy Projects (OEP) will conduct a site review of the proposed Grasslands Project. The Grasslands Project facilities are proposed for construction by Williston Basin Interstate Pipeline Company. The proposed facilities, crossing portions of Campbell County, Wyoming; Carter, Fallon, and Wibaux Counties, Montana; and Golden Valley, Billings, Stark, and Dunn Counties, North Dakota, will be inspected entirely by helicopter.

Anyone interested in obtaining further information may contact the Commission's Office of External Affairs at 1-866-208-FERC.

Linwood A. Watson, Jr.,
Deputy Secretary.

[FR Doc. 02-26499 Filed 10-17-02; 8:45 am]

BILLING CODE 6717-01-P